DEPARTMENT OF AGRICULTURE

Natural Resources Conservation Service

Notice of Availability of the “Natural Resources Conservation Service Conservation Programs Manual—Part 513: Resource Conservation and Development (RC&D) Program”

AGENCY: Natural Resources Conservation Service, Department of Agriculture.

ACTION: Notice and request for comments.

SUMMARY: The United States Department of Agriculture (USDA) seeks comments on the proposed revision of the “Natural Resources Conservation Service Conservation Programs Manual—Part 513: Resource Conservation and Development (RC&D) Program.” USDA asks for comments from RC&D Council members and other individuals; tribal, State, and local governments and organizations involved in either natural resource conservation or community development groups. These comments will assist USDA in policy development and implementation of the RC&D program. This manual is intended for use by Natural Resources Conservation Service (NRCS) and other USDA staff members, RC&D Council members, and others that either will develop RC&D applications or participate in the RC&D program.

EFFECTIVE DATES: Comments will be received beginning April 14, 2000. The comment period will end on June 22, 2000. All comments post-marked by June 22, 2000, will be accepted.

ADDRESSES: Address all requests and comments to: Terry D'Addio, National RC&D Program Manager, Natural Resources Conservation Service, Room 6013, South Building, 14th & Independence Avenue, SW, Washington, DC 20250.

FOR FURTHER INFORMATION CONTACT: Terry D'Addio, Natural Resources Conservation Service, (202) 720-0557; fax: (202) 690-0639; e-mail: terry.daddio@usda.gov

SUPPLEMENTARY INFORMATION: The “Conservation Programs Manual: Part 513—RC&D Program” is a document intended for use by NRCS and other USDA staff members, RC&D Council members, and others that either will develop RC&D applications or participate in the RC&D program. The purpose of this document is to provide policy guidance for the RC&D program, not to establish regulatory requirements. The RC&D program was authorized to encourage and improve the capability of State and local units of government and local nonprofit organizations in rural areas to plan, develop, and implement programs for resource conservation and development. Through the establishment of RC&D areas, the program establishes or improves coordination systems in communities and builds community leadership skills to effectively use Federal, State, and local programs for the communities' benefit.

Current program objectives focus on improvements achieved through natural resources conservation and community development. Such activities lead to sustainable communities, prudent land use, and the sound management and conservation of natural resources.

Assistance is provided, as authorized by the Secretary of Agriculture, to designated RC&D areas through their organized RC&D Councils (comprised of local elected officials and civic leaders). RC&D Councils, in association with local, State, and Federal governments—and other non-profit organizations—initiate and lead the planning and implementation of their locally developed RC&D area plans. Councils also obtain assistance from other local, State, and Federal agencies; private organizations; and foundations.

USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternative means for communication of program information (Braille, large print, audio tape, etc.) should contact the USDA's Target Center at (202) 720-2600 (voice and TDD).

To file a complaint of discrimination to USDA, write to Director, Office of Civil Rights, Room 326-W, Whitten Building, 14th and Independence Avenue, SW, Washington, DC 20250-9410, or call (202) 720-5964 (voice and TDD). USDA is an equal opportunity provider and employer.

Signed at Washington, DC, on March 29, 2000.
Pearlie S. Reed,
Chief, Natural Resources Conservation Service.

[FR Doc. 00-9363 Filed 4-13-00; 8:45 am]

BILLING CODE 3410-16-P